SOCIAL SECURITY ADMINISTRATION

[Docket No: SSA-2019-0035]

Agency Information Collection Activities: Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2019-0031].

SSA submitted the information collections below to OMB for clearance. Your comments regarding these information collections would be most useful if OMB and SSA receive them 30 days from the date of this publication. To be sure we consider your comments, we must receive them no later than September 6, 2019. Individuals can obtain copies of the OMB clearance packages by writing to OR.Reports.Clearance@ssa.gov.

1. Application for Lump Sum Death Payment—20 CFR 404.390-404.392—0960-0013. SSA uses Form SSA-8 to collect information needed to authorize payment of the lump sum death payment (LSDP) to a widow, widower, or children as defined in section 202(i) of the Social Security Act (Act). Respondents complete the application for this one-time payment through use of the paper form, or person interview with an SSA employee either via telephone, or in person in a field office. For all personal interviews (either telephone or in-person), we collect the information in our electronic Modernized Claim System (MCS) or via our Intranet-based Preliminary Claims System (PCS) which mirrors the MCS screens. Respondents are applicants for the LSDP.

Type of Request: Revision of an OMB-approved information collection.

Modality of completion | Number of respondents | Frequency of response | Average burden per response (minutes) | Estimated total annual burden (hours)
SSA-8—MCS or PCS Screens | 656,623 | 1 | 9 | 98,493
SSA-8—Paper Form | 5,484 | 1 | 10 | 914
Total | 662,107 |  |  | 99,407

2. Statement for Determining Continuing Eligibility, Supplemental Security Income Payment(s)—416.204—0960-0416. To determine whether SSI recipients (1) have met and continue to meet all statutory and regulatory requirements for SSI eligibility and (2) are receiving the correct SSI payment amount, SSA conducts redeterminations of disability. Periodic collection of this information using Form SSA-8203BK is the only way SSA can make these redeterminations, and collection of this information is mandatory under the law. We routinely collect the information in field offices via personal contact (face-to-face or telephone interview) using the automated SSI Claims System. The respondents are SSI recipients or their representative payees.

Type of Request: Revision on an OMB-approved information collection.

Modality of completion | Number of respondents | Frequency of response | Average burden per response (minutes) | Estimated total annual burden (hours)
SSI Claims System | 1,468,220 | 1 | 19 | 464,936
Paper | 135,357 | 1 | 20 | 45,119
Total | 1,603,577 |  |  | 510,055

3. Statement for Determining Continuing Entitlement for Special Veterans Benefits (SVB)—0960-0782. Title VIII of the Act provides for the payment of Special Veterans benefits (SVB) to certain World War II veterans who reside outside of the United States. SSA regularly reviews individuals' claims for SVB to determine their continued eligibility and correct payment amounts. Individuals living outside the United States receiving SVB must report to SSA any changes that may affect their benefits. These include changes such as: (1) A change in mailing address or residence; (2) an increase or decrease in a pension, annuity, or other recurring benefit; (3) a return or visit to the United States for a calendar month or longer; or (4) an inability to manage benefits. SSA uses Form SSA-2010, to collect this information. Beneficiaries under age 90 receive notification of their benefit review along with the form every two years, and beneficiaries age 90 or older have face-to-face interviews with the Foreign Service Post every year who assist them in completing this form. Currently, the average respondent is over age 90, and very few respondents are under age 90. Respondents are beneficiaries living outside the United States collecting SVB.

Type of Request: Revision on an OMB-approved information collection.

Modality of completion | Number of respondents | Frequency of response | Average burden per response (minutes) | Estimated total annual burden (hours)
SSA-2010 | 382 | 1 | 20 | 127

Dated: August 1, 2019.
Naomi Sipple,
Reports Clearance Officer, Social Security Administration.

[FR Doc. 2019-16805 Filed 8-6-19; 8:45 am]

BILLING CODE 4191-02-P